DEPARTMENT OF HEALTH AND HUMAN SERVICES

National Institutes of Health National

National Institute of Child Health And Human Development; Notice of Meeting

Pursuant to section 10(a) of the Federal Advisory Committee Act, as amended (5 U.S.C. Appendix 2), notice is hereby given of a meeting of the National Advisory Board on Medical Rehabilitation Research.

The meeting will be open to the public, with attendance limited to space available. Individuals who plan to attend and need special assistance, such as sign language interpretation or other reasonable accommodations, should notify the Contact Person listed below in advance of the meeting.

Name of Committee: National Advisory Board on Medical Rehabilitation Research.

Date: December 5-6, 2002.

Time: December 5, 2002, 8:45 a.m. to 5 p.m.

Agenda: The agenda will include reports by the Director, NICHD and Director, NCMRR, update on NCMRR training activities, discussion of the future of medical rehabilitation, and other business of the Board.

Place: Holiday Inn—Silver Spring, 8777 Georgia Avenue, Silver Spring, MD 20910.

Time: December 6, 2002, 8:45 a.m. to Adjournment.

Agenda: The agenda will include reports by the Director, NICHD and Director, NCMRR, update on NCMRR training activities, discussion of the future of medical rehabilitation, and other business of the Board.

Place: Holiday Inn—Silver Spring, 8777 Georgia Avenue, Silver Spring, MD 20910.

Contact Person: Ralph M. Nitkin, PhD, Director, BSCD, National Center for Medical Rehabilitation Research, National Institute of Child Health and Human Development, NIH, 6100 Building, room 2A03, Bethesda, MD 20892, (301) 402-4206.

This notice is being published less than 15 days prior to the meeting due to the timing limitations imposed by the review and funding cycle.

In the interest of security, NIH has instituted stringent procedures for entrance into the building by non-government employees. Persons without a government I.D. will need to show a photo I.D. and sign-in at the security desk upon entering the building.

Information is also available on the Institute's/Center's home page: www.nichd.nih.gov/about/ncmrr.htm, where an agenda and any additional information for the meeting will be posed when available.

(Catalogue of Federal Domestic Assistance Program Nos. 93.209, Contraception and Infertility Loan Repayment Program; 93.864, Population Research; 93.865, Research for Mothers and Children; 93.929, Center for Medical Rehabilitation Research, National Institutes of Health, HHS)

Dated: November 21, 2002.
LaVerne Y. Stringfield,
Director, Office of Federal Advisory Committee Policy.

[FR Doc. 02-30232 Filed 11-27-02; 8:45 am]

BILLING CODE 4140-01-M